DEPARTMENT OF ENERGY

Federal Energy Regulatory Commission

[Docket No. CP22-33-001]

Northern Natural Gas Company; Notice of Request for Extension of Time

Take notice that on April 13, 2023, Northern Natural Gas Company (Northern) requested that Federal Energy Regulatory Commission (Commission) grant an extension of time, until May 31, 2025, for the Redfield Broderick Well Replacement Project (Project), to allow sufficient time to complete construction of the Project. Northern received a prior notice authorization for the Project on March 7, 2022, which authorized: Northern to replace the existing Broderick No. 9 well with a new well, the Broderick No. 16 well, along with associated surface facilities at Northern's existing Redfield storage field located in Dallas County, Iowa. The Commission's prior notice regulations require Northern to complete the construction of the Project and make it available for service within one year from issuance, or by March 7, 2023.¹

¹ 18 CFR 157.206.

In Northern's request for an extension of time, Northern stated that it did not anticipate downhole issues within the Broderick No. 16 well and fully anticipated the drill would be completed within the one-year construction timeframe. Northern has completed the abandonment of the Broderick No. 9 well; however, the Broderick No. 16 well installation has not been completed. Northern reported in the weekly environmental inspector reports that Northern was experiencing downhole cement integrity issues at the Broderick No. 16 well resulting from poor cement bond quality in the production casing. To attempt to remediate the integrity concerns, Northern's contractor conducted two cement squeeze remediations August 2022. Northern's drilling contractor also ran a cement bond log tool, which indicated that the cement squeeze remediations were insufficient. On September 13, 2022, the drill rig was removed from Broderick No. 16 well lot, and Northern continues to work with industry consultants for remedial options. Due to the extenuating circumstances Northern requests an extension of time which to complete the Project from the one-year date of March 7, 2023, to the new projected completion date of May 31, 2025.

This notice establishes a 15-calendar day intervention and comment period deadline. Any person wishing to comment on Northern's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).²

² Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the Certificate Order, including whether the Commission properly found the project to be in the public convenience and necessity and whether the Commission's environmental analysis for the certificate complied with the National Environmental Policy Act.⁶ At the time a pipeline requests an extension of time, orders on certificates of public convenience and necessity are final and the Commission will not re-litigate their issuance.⁷ The OEP Director, or his or her designee, will act on those extension requests that are uncontested.

³ Contested proceedings are those where an intervenor disputes any material issue of the filing. 18 CFR 385.2201(c)(1).

⁴ Algonquin Gas Transmission, LLC, 170 FERC ¶ 61,144, at P 40 (2020).

⁵ Id. P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room. For assistance, contact FERC at FERCOnlineSupport@ferc.gov or call toll-free, (886) 208-3676 or TTY, (202) 502-8659.

The Commission strongly encourages electronic filings of comments, protests and interventions in lieu of paper using the “eFile” link at http://www.ferc.gov. Persons unable to file electronically should submit an original copy of the protest or intervention by US mail to Kimberly D. Bose, Secretary, Federal Energy Regulatory Commission, 888 First Street NE, Room 1A, Washington, DC 20426. Submissions by any other courier in docketed proceedings should be delivered to, Kimberly D. Bose, Secretary, Federal Energy Regulatory Commission, 12225 Wilkins Avenue, Rockville, Maryland 20852.

Comment Date: 5:00 p.m. Eastern Time on May 4, 2023.

Dated: April 19, 2023.
Debbie-Anne A. Reese,
Deputy Secretary.

[FR Doc. 2023-08740 Filed 4-25-23; 8:45 am]

BILLING CODE 6717-01-P